DEPARTMENT OF ENERGY

Federal Energy Regulatory Commission

Combined Notice of Filings

Take notice that the Commission has received the following Natural Gas Pipeline Rate and Refund Report filings:

Filings Instituting Proceedings

Docket Numbers: RP12-1006-000

Applicants: Colorado Interstate Gas Company LLC

Description: Operational Purchases and Sales Report of Colorado Interstate Gas Company LLC

Filed Date: 8/31/12

Accession Number: 20120831-5156

Comments Due: 5 p.m. ET 3/8/13

Docket Numbers: RP13-596-000

Applicants: Southern Natural Gas Company, L.L.C.

Description: Fuel Retention Rates—2013 to be effective 4/1/2013

Filed Date: 2/28/13

Accession Number: 20130228-5065

Comments Due: 5 p.m. ET 3/12/13

Docket Numbers: RP13-597-000

Applicants: Millennium Pipeline Company, LLC

Description: RAM 2013 to be effective 4/1/2013

Filed Date: 2/28/13

Accession Number: 20130228-5066

Comments Due: 5 p.m. ET 3/12/13

Docket Numbers: RP13-598-000

Applicants: Elba Express Company, L.L.C.

Description: Elba Express Pipeline Project—Phase B Compression to be effective 4/1/2013

Filed Date: 2/28/13

Accession Number: 20130228-5067

Comments Due: 5 p.m. ET 3/12/13

Docket Numbers: RP13-599-000

Applicants: El Paso Natural Gas Company, L.L.C.

Description: Non-Conforming OPASA Filing to be effective 3/1/2013

Filed Date: 2/28/13

Accession Number: 20130228-5072

Comments Due: 5 p.m. ET 3/12/13

Docket Numbers: RP13-600-000

Applicants: Natural Gas Pipeline Company of America

Description: Removal of Agreements to be effective 4/1/2013

Filed Date: 2/28/13

Accession Number: 20130228-5073

Comments Due: 5 p.m. ET 3/12/13

Docket Numbers: RP13-601-000

Applicants: High Island Offshore System, L.L.C.

Description: High Island Offshore System, L.L.C. submits 2013 Annual Fuel Filing for calendar year 2012 activity

Filed Date: 2/28/13

Accession Number: 20130228-5084

Comments Due: 5 p.m. ET 3/12/13

Docket Numbers: RP13-602-000

Applicants: Tallgrass Interstate Gas Transmission, L

Description: Neg Rate Choice Ethanol (fka Nedak) 2013-02-28 to be effective 2/28/2013

Filed Date: 2/28/13

Accession Number: 20130228-5091

Comments Due: 5 p.m. ET 3/12/13

Docket Numbers: RP13-603-000

Applicants: Guardian Pipeline, L.L.C.

Description: EPC Semi Annual Adjustment—Spring 2013 to be effective 4/1/2013

Filed Date: 2/28/13

Accession Number: 20130228-5100

Comments Due: 5 p.m. ET 3/12/13

Docket Numbers: RP13-604-000

Applicants: Viking Gas Transmission Company

Description: LMCRA—Spring 2013 to be effective 4/1/2013

Filed Date: 2/28/13

Accession Number: 20130228-5101

Comments Due: 5 p.m. ET 3/12/13

Docket Numbers: RP13-605-000

Applicants: El Paso Natural Gas Company, L.L.C.

Description: Willcox Lateral Expansion Tariff Compliance Filing to be effective 4/1/2013

Filed Date: 2/28/13

Accession Number: 20130228-5116

Comments Due: 5 p.m. ET 3/12/13

Docket Numbers: RP13-606-000

Applicants: Columbia Gas Transmission, LLC

Description: LNG Settlement—Pro-Forma to be effective 12/31/9998

Filed Date: 2/28/13

Accession Number: 20130228-5150

Comments Due: 5 p.m. ET 3/12/13

Docket Numbers: RP13-607-000

Applicants: Northern Natural Gas Company

Description: 20130228 Negotiated Rate to be effective 3/1/2013

Filed Date: 2/28/13

Accession Number: 20130228-5157

Comments Due: 5 p.m. ET 3/12/13

Docket Numbers: RP13-608-000

Applicants: American Midstream (Midla), LLC

Description: Midla Non-Conforming Agreements to be effective 3/1/2013

Filed Date: 2/28/13

Accession Number: 20130228-5165

Comments Due: 5 p.m. ET 3/12/13

Docket Numbers: RP13-609-000

Applicants: Tennessee Gas Pipeline Company, L.L.C.

Description: Fuel Tracker 2013 to be effective 4/1/2013

Filed Date: 2/28/13

Accession Number: 20130228-5185

Comments Due: 5 p.m. ET 3/12/13

Docket Numbers: RP13-610-000

Applicants: Rockies Express Pipeline LLC

Description: Rockies Express Pipeline LLC submits tariff filing per 154.204: 2013 Annual FL&U Percentage Adjustment to be effective 4/1/2013

Filed Date: 2/28/13

Accession Number: 20130228-5204

Comments Due: 5 p.m. ET 3/12/13

Docket Numbers: RP13-611-000

Applicants: Transwestern Pipeline Company, LLC

Description: 2013 TW Settlement Fuel Filing to be effective 4/1/2013

Filed Date: 2/28/13

Accession Number: 20130228-5261

Comments Due: 5 p.m. ET 3/12/13

Docket Numbers: RP13-612-000

Applicants: Dominion Cove Point LNG, LP

Description: DCP—2013 Annual EPCA to be effective 4/1/2013

Filed Date: 2/28/13

Accession Number: 20130228-5292

Comments Due: 5 p.m. ET 3/12/13

Docket Numbers: RP13-613-000

Applicants: Dominion Cove Point LNG, LP

Description: DCP—2013 Annual Fuel Retainage to be effective 4/1/2013

Filed Date: 2/28/13

Accession Number: 20130228-5297

Comments Due: 5 p.m. ET 3/12/13

Docket Numbers: RP13-614-000

Applicants: ANR Pipeline Company

Description: Marshfield Reduction Phase IV to be effective 4/1/2013

Filed Date: 2/28/13

Accession Number: 20130228-5330

Comments Due: 5 p.m. ET 3/12/13

Docket Numbers: RP13-615-000

Applicants: Cheniere Creole Trail Pipeline, L.P.

Description: Transportation Retainage Adjustment to be effective 4/1/2013

Filed Date: 2/28/13

Accession Number: 20130228-5357

Comments Due: 5 p.m. ET 3/12/13

Docket Numbers: RP13-616-000

Applicants: Kern River Gas Transmission Company

Description: 2013 Daggett Surcharge to be effective 4/1/2013

Filed Date: 3/1/13

Accession Number: 20130301-5002

Comments Due: 5 p.m. ET 3/13/13

Docket Numbers: RP13-617-000

Applicants: Columbia Gas Transmission, LLC

Description: Firm to IPP Pooling Modifications to be effective 4/1/2013

Filed Date: 3/1/13

Accession Number: 20130301-5027

Comments Due: 5 p.m. ET 3/13/13

Docket Numbers: RP13-618-000

Applicants: Transcontinental Gas Pipe Line Company,

Description: Annual Electric Power Tracker Filing effective April 1, 2013 to be effective 4/1/2013

Filed Date: 3/1/13

Accession Number: 20130301-5038

Comments Due: 5 p.m. ET 3/13/13

Docket Numbers: RP13-619-000

Applicants: Big Sandy Pipeline, LLC

Description: Big Sandy Pipeline, LLC submits tariff filing per 154.204: Troublesome Creek 1009027 Negotiated Rate to be effective 4/1/2013

Filed Date: 3/1/13

Accession Number: 20130301-5039

Comments Due: 5 p.m. ET 3/13/13

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-65-003

Applicants: Trans-Union Interstate Pipeline, L.P.

Description: Order 587-V Compliance Filing to Modify Tariff (2.14.13) to be effective 12/1/2012

Filed Date: 2/14/13

Accession Number: 20130214-5054

Comments Due: 5 p.m. ET 3/5/13

Docket Numbers: RP12-955-003

Applicants: CenterPoint Energy—Mississippi River T

Description: MRT Rate Case Motion Rate Filing to be effective 3/1/2013

Filed Date: 2/28/13

Accession Number: 20130228-5103

Comments Due: 5 p.m. ET 3/12/13

Docket Numbers: RP12-993-002

Applicants: Transcontinental Gas Pipe Line Company,

Description: Compliance Filing to Update Suspended Tariff Records in Docket No. RP12-993 to be effective 3/1/2013

Filed Date: 2/28/13

Accession Number: 20130228-5346

Comments Due: 5 p.m. ET 3/12/13

Docket Numbers: RP13-147-002

Applicants: WestGas InterState, Inc.

Description: 20130228_Compliance Filing to be effective 12/1/2012

Filed Date: 2/28/13

Accession Number: 20130228-5366

Comments Due: 5 p.m. ET 3/12/13

Docket Numbers: RP13-588-001

Applicants: Natural Gas Pipeline Company of America

Description: Interstate Power Amended Negotiated Rate Filing to be effective 3/1/2013

Filed Date: 2/28/13

Accession Number: 20130228-5152

Comments Due: 5 p.m. ET 3/12/13

Docket Numbers: RP13-147-003

Applicants: WestGas InterState, Inc.

Description: 20130301_Compliance Filing to be effective 12/1/2012

Filed Date: 3/1/13

Accession Number: 20130301-5003

Comments Due: 5 p.m. ET 3/13/13

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 1, 2013.
Nathaniel J. Davis, Sr.,
Deputy Secretary

[FR Doc. 2013-05326 Filed 3-6-13; 8:45 am]

BILLING CODE 6717-01-P